POSTAL SERVICE

Sunshine Act Meeting

AGENCY: United States Postal Service Board of Governors

TIMES AND DATES: 10:00 a.m., Monday, July 10, 2000; 8:30 a.m., Tuesday, July 11, 2000.

PLACE: Washington, DC, at U.S. Postal Service Headquarters, 475 L'Enfant Plaza, SW., in the Benjamin Franklin Room.

STATUS: July 10 (Closed); July 11 (Open).

MATTERS TO BE CONSIDERED:

Monday, July 10—10:00 a.m. (Closed)

1. Financial Performance and Schedule for Fiscal Year 2001 Integrated Financial Plan.

2. Strategic Planning.

3. Rate Case Update.

4. International Funds Transfer.

5. Priority Mail Processing Centers (PMPCs).

6. Personnel Matters.

7. Compensation Issues.

Tuesday, July—8:30 a.m. (Open)

1. Minutes of the Previous Meeting, June 5-6, 2000.

2. Remarks of the Postmaster General/Chief Executive Officer.

3. Board Resolution on Capital Funding.

4. Quarterly Report on Service Performance.

5. Quarterly Report on Financial Results.

6. Capital Investments.

a. Surface-Air Management System (SAMS).

b. Delivery Operations Information System (DOIS).

c. 362 Automated Flat Sorting Machine (AFSM) 100s.

d. Mail Evaluation Instrument (MERLIN).

7. Tentative Agenda for the August 7-8, 2000, meeting in Reno, Nevada.

CONTACT PERSON FOR MORE INFORMATION: David G. Hunter, Secretary of the Board, U.S. Postal Service, 475 L'Enfant Plaza, SW., Washington, DC 20260-1000. Telephone (202) 268-4800.

David G. Hunter,
Secretary.

[FR Doc. 00-16668 Filed 6-27-00; 3:33 pm]

BILLING CODE 7710-12-M